NUCLEAR REGULATORY COMMISSION

[Docket Nos. 50-272 and 50-311]

In the Matter of PSEG Nuclear LLC, Philadelphia Electric Company, (PECO Energy Company), Delmarva Power and Light Company, Atlantic City Electric Company, (Salem Nuclear Generating Station, Units 1 and 2); Supplemental Order Regarding Approval of Transfer of Licenses and Conforming Amendments

I

PSEG Nuclear LLC, Philadelphia Electric Company (PECO Energy Company), Delmarva Power and Light Company (DP&L), and Atlantic City Electric Company (ACE) are the joint owners of the Salem Nuclear Generating Station, Unit Nos. 1 and 2 (Salem), located in Salem County, New Jersey. They hold Facility Operating Licenses Nos. DPR-70 and DPR-75, issued by the U.S. Nuclear Regulatory Commission (NRC or Commission) on August 13, 1976, and May 20, 1981, respectively, pursuant to Part 50 of Title 10 of the Code of Federal Regulations (10 CFR Part 50). Under these licenses, PSEG Nuclear LLC (currently owner of 42.59 percent of each Salem unit) is authorized to possess, use, and operate the Salem units. The current combined nonoperating ownership interests of DP&L and ACE are 14.82 percent of each Salem unit. They own 7.41 percent of each Salem unit individually.

II

By an application dated December 20, 1999, as supplemented February 11, and February 25, 2000, PSEG Nuclear LLC, DP&L, and ACE requested approval by the NRC of the transfer to PSEG Nuclear LLC of the Salem licenses, to the extent held by DP&L and ACE, in conjunction with the proposed acquisition of DP&L's and ACE's combined ownership interests in the Salem units by PSEG Nuclear LLC. DP&L and ACE are both subsidiaries of Conectiv. In response to that request, the NRC staff published a notice of the license transfer application, the related conforming amendment request included in the application, and an opportunity for a hearing in the Federal Register on February 18, 2000 (65 FR 8452). No hearing requests were filed. The NRC approved the transfer request by an Order dated April 21, 2000. That Order, which contained several conditions of approval, was based in part on the premise that the DP&L and ACE interests would be transferred concurrently as a combined interest. In a supplemental application dated October 10, 2000, DP&L and ACE indicated that due to certain delays in receiving other necessary regulatory approvals, their interests in the Salem licenses need to be transferred independently in two phases to PSEG Nuclear LLC, namely the DP&L interest would be transferred first, followed by the transfer of the ACE interest. They asked that the effectiveness of the Order approving the license transfers be extended until December 31, 2001, due to the delays in receiving the other regulatory approvals, and that any necessary actions be taken to allow the transfers to occur in two phases.

PSEG Nuclear LLC also requested approval of conforming license amendments, modified from the amendments previously approved to reflect the transfers as they may occur in two phases. The amendments would still delete references to DP&L and ACE to reflect the transfer of each of their interests, as they occur, in the licenses to PSEG Nuclear LLC.

Approval of the transfers, as they may now occur in two phases, and corresponding modified conforming license amendments was requested pursuant to 10 CFR 50.80 and 50.90. The NRC staff determined that the supplemental application dated October 10, 2000, related only to schedular matters and did not involve any material changes to the underlying basis for the transfer approval Order dated April 21, 2000. Therefore, the supplemental application was within the scope of the February 18, 2000, Federal Register notice and did not require renoticing or a new opportunity for a hearing.

Pursuant to 10 CFR 50.80, no license, or any right thereunder, shall be transferred, directly or indirectly, through transfer of control of the license, unless the Commission shall give its consent in writing. After reviewing the information submitted in the October 10, 2000, submittal and other information before the Commission, the NRC staff has determined that its previous findings set forth in the Order dated April 21, 2000, remain valid notwithstanding the transfers occurring in two phases, namely, PSEG Nuclear LLC is qualified to hold the license for each Salem unit to the same extent the licenses are now held by DP&L and ACE, and that the transfer of the licenses, as previously described herein, is otherwise consistent with applicable provisions of law, regulations, and orders issued by the Commission, subject to the conditions described herein. The NRC staff has further found that the supplemental application for the proposed license amendments to reflect the transfers occurring in two phases complies with the standards and requirements of the Atomic Energy Act of 1954, as amended (the Act), and the Commission's rules and regulations set forth in 10 CFR Chapter I; the facility will operate in conformity with the application, the provisions of the Act, and the rules and regulations of the Commission; there is reasonable assurance that the activities authorized by the proposed license amendments can be conducted without endangering the health and safety of the public and that such activities will be conducted in compliance with the Commission's regulations; the issuance of the proposed license amendments will not be inimical to the common defense and security or to the health and safety of the public; and the issuance of the proposed license amendments will be in accordance with 10 CFR Part 51 of the Commission's regulations and all applicable requirements have been satisfied. These findings are supported by a safety evaluation dated December 21, 2000.

III

Accordingly, pursuant to Sections 161b, 161i, and 184 of the Atomic Energy Act of 1954, as amended, 42 U.S.C. §§ 2201(b), 2201(i), and 2234, and 10 CFR 50.80, It Is Hereby Ordered that the effectiveness of the Order dated April 21, 2000, is extended to December 31, 2001. Any concurrent transfer of the DP&L and ACE interests to PSEG Nuclear LLC shall remain subject to the terms and conditions of the April 21, 2000, Order.

It Is Further Ordered that the license transfers from DP&L and ACE to PSEG Nuclear LLC may occur in two phases, as described above, subject to the following conditions:

1. DP&L shall transfer to the PSEG Nuclear LLC decommissioning trusts for Salem at the time its interests in the Salem licenses are transferred to PSEG Nuclear LLC, all of DP&L's accumulated decommissioning trust funds for Salem Unit Nos. 1 and 2. Immediately following such transfer, the amounts in the PSEG Nuclear LLC decommissioning trusts must, with respect to the interests in Salem Unit Nos. 1 and 2 PSEG Nuclear LLC would then hold, be at a level no less than the formula amounts under 10 CFR Section 50.75.

2. ACE shall transfer to the PSEG Nuclear LLC decommissioning trusts for Salem at the time its interests in the Salem licenses are transferred to PSEG Nuclear LLC, all of ACE's accumulated decommissioning trust funds for Salem Unit Nos. 1 and 2. Immediately following such transfer, the amounts in the PSEG Nuclear LLC decommissioning trusts must, with respect to the interests in Salem Unit Nos. 1 and 2 PSEG Nuclear LLC would then hold, be at a level no less than the formula amounts under 10 CFR Section 50.75.

3. Conditions 3.a. through 3.e. of the April 21, 2000, Order, which have now been incorporated into the Salem licenses by a separate licensing action, shall remain applicable to the PSEG Nuclear LLC decommissioning trust agreements for Salem Unit Nos. 1 and 2. The citation in the foregoing condition 3.e. is corrected to read “10 CFR 35.32(a)(3)”.

4. PSEG Nuclear LLC shall inform the Director, Office of Nuclear Reactor Regulation, in writing, of the date of closing of each subject transfer no later than 2 business days before the date of each closing. If the transfer of the DP&L or ACE interests is not completed by December 31, 2001, this Order shall become null and void with respect to any such transfer not yet completed; however, on application and for good cause shown, such date may be extended.

It Is Further Ordered that, consistent with 10 CFR 2.1315(b), license amendments that make changes, as indicated in Enclosure 2 to the cover letter forwarding this Order, to conform each Salem license to reflect each subject license transfer are approved. To the extent the license pages in Enclosure 2 reflect intervening events and completed licensing actions that have occurred since the issuance of the April 21, 2000, Order, and therefore are inconsistent with the license pages referenced in that Order showing the changes to the licenses approved by that Order, the amendment pages approved by this Order supersede the previously approved license pages. Those amendments approved by this Order appropriate to the particular license transfers in fact occurring shall be issued and made effective at the time the corresponding license transfers are completed.

This Order is effective upon issuance.

For further details with respect to this Order, see the submittal dated October 10, 2000, the previous related application dated December 20, 1999, and supplements thereto dated February 11, and February 25, 2000, which may be examined, and/or copied for a fee, at the NRC's Public Document Room, located at One White Flint North, 11555 Rockville Pike (first floor), Rockville, MD, and are accessible electronically through the ADAMS Public Electronic Reading Room link at the NRC Web site http://www.nrc.gov.

Dated at Rockville, Maryland, this 21st day of December 2000.
For the Nuclear Regulatory Commission.
Samuel J. Collins,
Director, Office of Nuclear Reactor Regulation.

[FR Doc. 00-33150 Filed 12-27-00; 8:45 am]

BILLING CODE 7590-01-P